DEPARTMENT OF HEALTH AND HUMAN SERVICES

National Institutes of Health

Submission for OMB Review; 30-day Comment Request: Pediatric Palliative Care Campaign Pilot Survey

SUMMARY: Under the provisions of Section 3507(a)(1)(D) of the Paperwork Reduction Act of 1995, the National Institute of Nursing Research (NINR), the National Institutes of Health (NIH) has submitted to the Office of Management and Budget (OMB) a request for review and approval of the information collection listed below. This proposed information collection was previously published in the Federal Register on December 26, 2012, page 76053 and allowed 60-days for public comment. No public comments were received. The purpose of this notice is to allow an additional 30 days for public comment. The National Institute of Nursing Research (NINR), National Institutes of Health may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, submit comments in writing, or request more information on the proposed project, contact: Ms. Adrienne Burroughs, Health Communications Specialist, Office of Communications and Public Liaison, NINR, NIH, Building 31, Room 5B10, 31 Center Drive, Bethesda, MD 20892 or call non-toll-free number (301) 496-0256 or Email your request, including your address to: adrienne.burroughs@nih.gov. Formal requests for additional plans and instruments must be requested in writing.

Proposed Collection: Pediatric Palliative Care Campaign Pilot Survey, 0925-New—National Institute of Nursing Research (NINR), National Institutes of Health (NIH).

Need and Use of Information Collection: NINR developed a Pediatric Palliative Care Campaign to address the communications challenges faced by health care providers who recommend and provide palliative care to pediatric populations. NINR is launching this effort to increase the use of palliative care for children living with serious illness or life-limiting conditions. The Pediatric Palliative Care Campaign Pilot Survey will assess the information and materials being disseminated as part of the Pediatric Palliative Care Campaign pilot. Survey findings will help (1) determine if the pilot campaign is effective, relevant, and useful to health care providers who recommend and provide palliative care to pediatric populations; (2) to better understand current perceptions, challenges, and information needs of health care providers when it comes to discussing pediatric palliative care so that information and materials can be refined; and (3) examine how effective the campaign pilot materials are in starting and continuing a pediatric palliative care conversation and addressing the communications needs of health care providers around this topic. This assessment will deliver strategic and actionable guidance for refining the campaign materials so that they can be used by a wider audience of health care providers.

OMB approval is requested for 1 year. There are no costs to respondents other than their time. The total estimated annualized burden hours are 25.

Estimated Annualized Burden Hours
Type of respondent | Number of respondents | Number of responses per respondent | Average burden per response (in hours) | Total annual burden hour
Physicians | 25 | 1 | 30/60 | 12.5
Nurses | 25 | 1 | 30/60 | 12.5
Total | 50 | 1 | 30/60 | 25

Dated: March 4, 2013.
Amanda Greene,
Science Evaluation Officer/Project Clearance Liaison, NINR, NIH.

[FR Doc. 2013-05774 Filed 3-12-13; 8:45 am]

BILLING CODE 4140-01-P